INTERNATIONAL TRADE COMMISSION

Sunshine Act Meeting; Notice

AGENCY HOLDING THE MEETING: United States International Trade Commission.

TIME AND DATE: July 13, 2000 at 11:00 a.m.

PLACE: Room 101, 500 E Street S.W., Washington, DC 20436, Telephone: (202) 205-2000.

STATUS: Open to the public.

MATTERS TO BE CONSIDERED:

1. Agenda for future meeting: None.

2. Minutes.

3. Ratification List.

4. Inv. Nos. 701-TA-309-A-B and 731-TA-528 (Review) (Magnesium from Canada)—briefing and vote. (The Commission is currently scheduled to transmit its determination to the Secretary of Commerce on July 25, 2000.)

5. Inv. Nos. 731-TA-846, 848, and 849 (Final) (Seamless Carbon and Alloy Steel Standard, Line, and Pressure Pipe and Tube from the Czech Republic, Mexico, and Romania)—briefing and vote. (The Commission is currently scheduled to transmit its determination to the Secretary of Commerce on August 2, 2000.)

6. Inv. Nos. 701-TA-401 and 731-TA-854 (Final)(Structural Steel Beams from Korea)—briefing and vote. (The Commission is currently scheduled to transmit its determination to the Secretary of Commerce on August 7, 2000.)

7. Outstanding action jackets:

1.) Document No. (E)GC-00-004: Administrative matters.

In accordance with Commission policy, subject matter listed above, not disposed of at the scheduled meeting, may be carried over to the agenda of the following meeting.

Issued: July 6, 2000.
By order of the Commission.
Donna R. Koehnke,
Secretary.

[FR Doc. 00-17600 Filed 7-7-00; 12:53 pm]

BILLING CODE 7020-02-P